NATIONAL CREDIT UNION ADMINISTRATION

Agency Information Collection Activities: Submission to OMB for Extension of a Currently Approved Collection; Comment Request

AGENCY: National Credit Union Administration (NCUA).

ACTION: Request for comment.

SUMMARY: The NCUA is submitting the following information collection to the Office of Management and Budget (OMB) for review and clearance under the Paperwork Reduction Act of 1995 (Pub. L. 104-13, 44 U.S.C. Chapter 35). This information collection is published to obtain comments from the public.

DATES: Comments will be accepted until May 27, 2008.

ADDRESSES: Interested parties are invited to submit written comments to the NCUA Clearance Officer listed below:

Clearance Officer: Mr. Jeryl Fish, National Credit Union Administration, 1775 Duke Street, Alexandria, VA 22314-3428, Fax No. 703-837-2861, E-mail: OCIOMail@ncua.gov.

FOR FURTHER INFORMATION CONTACT: Requests for additional information or a copy of the information collection request, should be directed to Tracy Sumpter at the National Credit Union Administration, 1775 Duke Street, Alexandria, VA 22314-3428, or at (703) 518-6444.

SUPPLEMENTARY INFORMATION: Proposal for the following collection of information:

Title: Forms and Instructions for Central Liquidity Facility Loans.

OMB Number: 3133-0064.

Form Number: NCUA—7000, 7001, 7002, 7003 and 7004.

Type of Review: Extension of a currently approved collection.

Description: Forms used by each borrower from the CLF.

Respondents: Credit unions that borrow from the CLF.

Estimated No. of Respondents/Record keepers: 25.

Estimated Burden Hours Per Response: 1 hour.

Frequency of Response: Other. As the need for borrowing arises.

Estimated Total Annual Burden Hours: 25 hours.

Estimated Total Annual Cost: 0.

By the National Credit Union Administration Board on March 20, 2008.
Mary Rupp,
Secretary of the Board.

[FR Doc. E8-6351 Filed 3-27-08; 8:45 am]

BILLING CODE 7535-01-P